DEPARTMENT OF TRANSPORTATION

Federal Aviation Administration

14 CFR Part 39

[Docket No. FAA-2006-26084; Directorate Identifier 2006-NM-063-AD]

RIN 2120-AA64

Airworthiness Directives; McDonnell Douglas Model DC-8-62, DC-8-63, DC-8-62F, and DC-8-63F Airplanes

AGENCY: Federal Aviation Administration (FAA), Department of Transportation (DOT).

ACTION: Notice of proposed rulemaking (NPRM).

SUMMARY: The FAA proposes to adopt a new airworthiness directive (AD) for certain McDonnell Douglas Model DC-8-62, DC-8-63, DC-8-62F, and DC-8-63F airplanes. This proposed AD would require revising the wiring for the engine thrust brake circuit and indicating circuit and other specified actions, or rerouting the wiring at plug P1-1762A on the electrical power center generator control panel, as necessary. This proposed AD results from the determination that the thrust reverser systems on these airplanes do not adequately preclude inadvertent deployment of the thrust reversers. We are proposing this AD to prevent inadvertent deployment of the thrust reversers during takeoff or landing, which could result in loss of control of the airplane.

DATES: We must receive comments on this proposed AD by December 4, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, Long Beach Division, 3855 Lakewood Boulevard, Long Beach, California 90846, Attention: Data and Service Management, Dept. C1-L5A (D800-0024), for the service information identified in this proposed AD.

FOR FURTHER INFORMATION CONTACT: William Bond, Aerospace Engineer, Propulsion Branch, ANM-140L, FAA, Los Angeles Aircraft Certification Office, 3960 Paramount Boulevard, Lakewood, California 90712-4137; telephone (562) 627-5253; fax (562) 627-5210.

SUPPLEMENTARY INFORMATION:

Comments Invited

We invite you to submit any relevant written data, views, or arguments regarding this proposed AD. Send your comments to an address listed in the ADDRESSES section. Include the docket number “FAA-2006-26084; Directorate Identifier 2006-NM-063-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

In April 1992, the FAA issued a document titled “Criteria for Assessing Transport Turbojet Fleet Thrust Reverser Safety.” This document is based upon the premise that no failure of thrust reverser components anticipated to occur in service should prevent continued safe flight and landing of an airplane. In order to comply with the criteria in the document, Boeing recommends incorporating a wiring modification of the thrust reverser system on McDonnell Douglas Model DC-8-62, DC-8-63, DC-8-62F, and DC-8-63F airplanes. Based upon the Boeing safety evaluations, we have determined that the existing thrust reverser systems on these airplanes do not adequately preclude inadvertent deployment of the thrust reversers. Inadvertent deployment of the thrust reversers during takeoff or landing could result in loss of control of the airplane.

Relevant Service Information

We have reviewed McDonnell Douglas DC-8 Service Bulletin 78-95, Revision 2, dated March 10, 1971; and Revision 1, dated December 29, 1970. The service bulletins describe procedures for either revising the wiring for the engine thrust brake circuit and indicating circuit and doing other specified actions, or rerouting the wiring at plug P1-1762A on the electrical power center (EPC) generator control panel, depending on the configuration of the airplane. The other specified actions include modifying and reidentifying a nameplate and accomplishing the adjustment/test of the thrust reverser system. For certain airplanes, the other specified actions also include installing a new bracket, terminal boards, and clamps. Accomplishing the actions specified in the service information is intended to adequately address the unsafe condition.

FAA's Determination and Requirements of the Proposed AD

We have evaluated all pertinent information and identified an unsafe condition that is likely to exist or develop on other airplanes of this same type design. For this reason, we are proposing this AD, which would require accomplishing the actions specified in the service information described previously, except as discussed under “Difference Between the Proposed AD and Service Bulletin.”

Difference Between the Proposed AD and Service Bulletin

Although the service bulletins do not recommend a compliance time for accomplishing the modification, we have coordinated a compliance time of 27 months with Boeing. In developing an appropriate compliance time for this proposed AD, we considered not only the manufacturer's recommendation, but the degree of urgency associated with addressing the subject unsafe condition, the average utilization of the affected fleet, and the time necessary to perform the modification. In light of all of these factors, we find a compliance time of 27 months for completing the required actions to be warranted, in that it represents an appropriate interval of time for affected airplanes to continue to operate without compromising safety.

Costs of Compliance

There are about 70 airplanes of the affected design in the worldwide fleet. This proposed AD would affect about 45 airplanes of U.S. registry. The proposed actions would take between 1 and 5 work hours per airplane, depending on airplane configuration, at an average labor rate of $80 per work hour. For a certain airplane configuration, required parts would cost about $9 per airplane. For a certain other airplane configuration, required parts would cost about $2,825 per airplane. Based on these figures, the estimated cost of the proposed AD for U.S. operators is between $4,005 and $145,125, or between $89 and $3,225 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

McDonnell Douglas: Docket No. FAA-2006-26084; Directorate Identifier 2006-NM-063-AD.

Comments Due Date

(a) The FAA must receive comments on this AD action by December 4, 2006.

Affected ADs

(b) None.

Applicability

(c) This AD applies to McDonnell Douglas Model DC-8-62 and DC-8-63 airplanes and Model DC-8-62F and DC-8-63F airplanes, certificated in any category; as identified in McDonnell Douglas DC-8 Service Bulletin 78-95, Revision 2, dated March 10, 1971.

Unsafe Condition

(d) This AD results from the determination that the thrust reverser systems on McDonnell Douglas Model DC-8-62, DC-8-63, Model DC-8-62F, and DC-8-63F airplanes do not adequately preclude inadvertent deployment of the thrust reversers. We are issuing this AD to prevent inadvertent deployment of the thrust reversers during takeoff or landing, which could result in loss of control of the airplane.

Compliance

(e) You are responsible for having the actions required by this AD performed within the compliance times specified, unless the actions have already been done.

Modification of Engine Thrust Brake Circuitry

(f) Within 27 months after the effective date of this AD, do the applicable action specified in paragraph (f)(1) or (f)(2) of this AD, by accomplishing all of the applicable actions specified in the Accomplishment Instructions of McDonnell Douglas DC-8 Service Bulletin 78-95, Revision 2, dated March 10, 1971; or Revision 1, dated December 29, 1970.

(1) Revise the wiring for the engine thrust brake circuit and indicating circuit, and do all other specified actions before further flight after revising the wiring.

(2) Reroute the wiring at plug P1-1762A on the electrical power center generator control panel.

Alternative Methods of Compliance (AMOCs)

(g)(1) The Manager, Los Angeles Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on October 10, 2006.
Kalene C. Yanamura,
Acting Manager, Transport Airplane Directorate, Aircraft Certification Service.

[FR Doc. E6-17421 Filed 10-18-06; 8:45 am]

BILLING CODE 4910-13-P